SECURITIES AND EXCHANGE COMMISSION

[Release No. IC-26776]

Notice of Applications for Deregistration Under Section 8(f) of the Investment Company Act of 1940

February 25, 2005.

The following is a notice of applications for deregistration under section 8(f) of the Investment Company Act of 1940 for the month of February, 2005. A copy of each application may be obtained for a fee at the SEC's Public Reference Branch, 450 Fifth St., NW., Washington, DC 20549-0102 (tel. (202) 942-8090). An order granting each application will be issued unless the SEC orders a hearing. Interested persons may request a hearing on any application by writing to the SEC's Secretary at the address below and serving the relevant applicant with a copy of the request, personally or by mail. Hearing requests should be received by the SEC by 5:30 p.m. on March 22, 2005, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 551-6810, SEC, Division of Investment Management, Office of Investment Company Regulation, 450 Fifth Street, NW., Washington, DC 20549-0504.

Hilliard Lyons Growth Fund, Inc. [File No. 811-6423]

Summary: Applicant seeks an order declaring that it has ceased to be an investment company. On November 5, 2004, applicant transferred its assets to Constellation HLAM Large Cap Quality Growth Fund, a series of Constellation Funds, based on net asset value. Expenses of $265,708 incurred in connection with the reorganization were paid by Hilliard Lyons Asset Management, applicant's investment adviser, and Constellation Investment Management company, LP, investment adviser to the acquiring fund.

Filing Dates: The application was filed on January 5, 2005, and amended on February 18, 2005.

Applicant's Address: Hilliard Lyons Center, Louisville, KY 40202.

Credit Suisse Strategic Small Cap Fund, Inc. [File No. 811-10435] and Credit Suisse New York Tax Exempt Fund, Inc. [File No. 811-4170]

Summary: Each applicant seeks an order declaring that it has ceased to be an investment company. On December 15, 2004, and January 6, 2005, respectively, applicants made a liquidating distribution to their shareholders, based on net asset value. Expenses of $15,000 and $50,000, respectively, incurred in connection with the liquidations were paid by Credit Suisse Asset Management, LLC, applicants' investment adviser, and/or its affiliates.

Filing Date: The applications were filed on January 26, 2005.

Applicants' Address: 466 Lexington Ave., New York, NY 10017.

Nuveen Tax Exempt Unit Trust Series 1 [File No. 811-1015]

Summary: Applicant, a unit investment trust, seeks an order declaring that it has ceased to be an investment company. On July 15, 2000, applicant made a final liquidating distribution to its shareholders, based on net asset value. Applicant incurred no expenses in connection with the liquidation.

Filing Date: The application was filed on January 24, 2005.

Applicant's Address: 333 West Wacker Dr., Chicago, IL 60606.

Nuveen Tax Exempt Unit Trust Series 15 [File No. 811-1507]; Nuveen Tax Exempt Unit Trust Series 19 [File No. 811-1688]; Nuveen Tax Exempt Unit Trust Series 20 [File No. 811-1742]; Nuveen Tax Exempt Unit Trust Series 30 National Trust 30 [File No. 811-2096]; Nuveen Tax Exempt Unit Trust Series 32 National Trust 32 [File No. 811-2121]; Nuveen Tax Exempt Unit Trust Series 34 National Trust 34 [File No. 811-2160]; Nuveen Tax Exempt Unit Trust Series 35 National Trust 35 [File No. 811-2169]; Nuveen Tax Exempt Unit Trust Series 38 [File No. 811-2223]; and Nuveen Tax Exempt Unit Trust Series 39 National Trust 39 [File No. 811-2234]

Summary: Each applicant, a unit investment trust, seeks an order declaring that it has ceased to be an investment company. Between August 15, 1999 and May 15, 2001, each applicant made a final liquidating distribution to its shareholders, based on net asset value. Applicants incurred no expenses in connection with the liquidations.

Filing Date: The applications were filed on January 25, 2005.

Applicants' Address: 333 West Wacker Dr., Chicago, IL 60606.

Touchstone Series Trust [File No. 811-8380]

Summary: Applicant seeks an order declaring that it has ceased to be an investment company. On April 28, 2000, three of applicant's series made a liquidating distribution to their shareholders, based on net asset value. On May 1, 2000, applicant's remaining series transferred their assets to corresponding series of Touchstone Strategic Trust and Touchstone Investment Trust, based on net asset value. Expenses of $375,000 incurred in connection with the reorganization were paid by Touchstone Advisors, Inc., applicant's investment adviser.

Filing Dates: The application was filed on December 9, 2004, and amended on February 9, 2005.

Applicant's Address: 221 East Fourth St., Suite 300, Cincinnati, OH 45202.

Arden Registered Institutional Advisers, L.L.C. [File No. 811-21307]

Summary: Applicant, a closed-end investment company, seeks an order declaring that it has ceased to be an investment company. Applicant has never made a public offering of its securities and does not propose to make a public offering or engage in business of any kind.

Filing Dates: The application was filed on January 12, 2005, and amended on February 4, 2005.

Applicant's Address: 350 Park Ave., 29th Floor, New York, NY 10022.

Nuveen Florida Dividend Advantage Municipal Fund [File No. 811-9467]; Nuveen Missouri Dividend Advantage Municipal Bond Fund [File No. 811-10195]; Nuveen California Dividend Advantage Municipal Fund 4 [File No. 811-10545]; Nuveen Dividend Advantage Municipal Fund 4 [File No. 811-10547]; Nuveen Pennsylvania Dividend Advantage Municipal Fund 3 [File No. 811-21150]; Nuveen New Jersey Dividend Advantage Municipal Fund 3 [File No. 811-21151]; Nuveen Michigan Dividend Advantage Municipal Fund 2 [File No. 811-21156]; Nuveen Colorado Dividend Advantage Municipal Fund [File No. 811-21159]; Nuveen Insured PA Tax Free Advantage Municipal Fund [File No. 811-21243]; Nuveen Insured NJ Tax Free Advantage Municipal Fund [File No. 811-21244]; Nuveen Insured Michigan Tax-Free Advantage Municipal Fund [File No. 811-21245]; Nuveen Insured New York Tax Free Advantage Municipal Fund 2 [File No. 811-21302]; Nuveen Insured Tax-Free Advantage Municipal Fund 2 [File No. 811-21303]; and Nuveen Insured CA Tax Free Advantage Municipal Fund 2 [File No. 811-21304]

Summary: Each applicant, a closed-end investment company, seeks an order declaring that it has ceased to be an investment company. Applicants have never made a public offering of their securities and do not propose to make a public offering or engage in business of any kind.

Filing Dates: The applications were filed on December 8, 2004, and amended on January 28, 2005.

Applicants' Address: 333 West Wacker Dr., Chicago, IL 60606.

Phoenix Trust [File No. 811-4116]

Summary: Applicant seeks an order declaring that it has ceased to be an investment company. On April 16, 2004, each of applicant's three series transferred its assets to Phoenix Investment Trust 97, Phoenix-Oakhurst Strategic Allocation Fund or Phoenix Equity Series Fund, based on net asset value. Expenses of $31,824 incurred in connection with the reorganization were paid by Phoenix Investment Partners, Ltd., investment adviser for applicant and the acquiring fund.

Filing Dates: The application was filed on December 1, 2004, and amended on January 28, 2005.

Applicant's Address: 56 Prospect St., PO Box 150480, Hartford, CT 06115-0480.

American Municipal Term Trust Inc. III [File No. 811-6516]

Summary: Applicant, a closed-end investment company, seeks an order declaring that it has ceased to be an investment company. On April 10, 2003, applicant made a liquidating distribution to its shareholders, based on net asset value. Prior to the liquidation date, applicant's preferred stock was redeemed at its liquidation preference, plus accumulated but unpaid dividends through the redemption date. Expenses of $4,801 incurred in connection with the liquidation were paid by applicant and U.S. Bancorp Asset Management, Inc., applicant's investment adviser.

Filing Dates: The application was filed on December 29, 2004, and amended on January 27, 2005.

Applicant's Address: U.S. Bancorp Asset Management, Inc., 800 Nicollet Mall, Minneapolis, MN 55402.

Lindbergh Funds [File No. 811-9437]

Summary: Applicant seeks an order declaring that it has ceased to be an investment company. On January 20, 2005, applicant made a final liquidating distribution to its shareholders, based on net asset value. Expenses of $3,200 incurred in connection with the liquidation were paid by Lindbergh Capital Management, applicant's investment adviser.

Filing Date: The application was filed on February 3, 2005.

Applicant's Address: 5520 Telegraph Rd., #204, St. Louis, MO 63129.

TCW Premier Funds [File No. 811-21164]

Summary: Applicant seeks an order declaring that it has ceased to be an investment company. Applicant has never made a public offering of its securities and does not propose to make a public offering or engage in business of any kind.

Filing Dates: The application was filed on December 1, 2004, and amended on January 18, 2005, and February 9, 2005.

Applicant's Address: 865 South Figueroa St., Suite 1800, Los Angeles, CA 90017.

For the Commission, by the Division of Investment Management, pursuant to delegated authority.
Margaret H. McFarland,
Deputy Secretary.

[FR Doc. E5-851 Filed 3-2-05; 8:45 am]

BILLING CODE 8010-01-P